DEPARTMENT OF AGRICULTURE

Food Safety and Inspection Service

[Docket No. FSIS-2005-0048]

Public Meeting on Advances in Post-Harvest Reduction of Salmonella in Poultry

AGENCY: Food Safety and Inspection Service, USDA.

ACTION: Notice.

SUMMARY: The Food Safety and Inspection Service (FSIS) is announcing that it will hold a public meeting on Salmonella Interventions in Poultry Slaughter and Processing on February 23 and February 24, 2006, in Atlanta, Georgia. The meeting will consist of presentations on research and practical experiences aimed at reducing the presence of Salmonella and other enteric microorganisms in poultry slaughter and processing.

DATES: The public meeting is scheduled for Thursday, February 23, 2006, from 9 a.m. to 5:30 p.m. e.s.t., and Friday, February 24, 2006, from 8:30 a.m. to 1 p.m. e.s.t.

ADDRESSES: The meetings will be held at The Loudermilk Center, 40 Courtland Street, NE., Atlanta, GA 30303. A tentative agenda will be available on the FSIS Web site at http://www.fsis.usda.gov/. The official transcript of the meeting, when it becomes available, can be accessed in the FSIS Docket Room, Room 102 Cotton Annex Building, 300 12th Street, SW., Washington, DC 20250 between 8:30 a.m. and 4:30 p.m., Monday through Friday.

FSIS invites interested persons to submit comments on this notice. Comments may be submitted by any of the following methods:

Federal eRulemaking Portal: This Web site provides the ability to type short comments directly into the comment field on this Web page or attach a file for lengthier comments. FSIS prefers to receive comments through the Federal eRulemaking Portal. Go to http://www.regulations.gov and, in the “Search for Open Regulations” box, select “Food Safety and Inspection Service” from the agency drop-down menu, then click on “Submit.” In the Docket ID column, select the Docket Number FSIS-2005-0048 to submit or view public comments and to view supporting and related materials available electronically.

Mail, including floppy disks or CD-ROM's, and hand- or courier-delivered items: Send to Docket Clerk, U.S. Department of Agriculture, Food Safety and Inspection Service, 300 12th Street, SW., Room 102 Cotton Annex Building, Washington, DC 20250-3700.

Electronic mail: fsis.regulationscomments@fsis.usda.gov.

All submissions received must include the Agency name and Docket Number FSIS-2005-0048. All comments submitted in response to this notice, as well as research and background information used by FSIS in developing this document, will be posted to the regulations.gov Web site. The background information and comments also will be available for public inspection in the FSIS Docket Room at the address listed above between 8:30 a.m. and 4:30 p.m., Monday through Friday.

FOR FURTHER INFORMATION CONTACT: Dr. William Shaw at (202) 205-0695. E-mail: william.shaw@fsis.usda.gov or Dr. Patty Bennett at (202) 205-0296. E-mail: patricia.bennett@fsis.usda.gov.

Pre-registration is encouraged for this meeting. To pre-register, contact Diane Jones at (202) 720-9692 or by e-mail at diane.jones@fsis.usda.gov. Persons requiring a sign language interpreter or other special accommodations should also contact Diane Jones using the contact information above as soon as possible.

This public meeting will also be available Live Online via NetMeeting. For questions regarding NetMeeting contact Sharon Randle at (202)690-6530.

SUPPLEMENTARY INFORMATION: The scientific community continues to work with establishments to investigate methods to reduce the presence of food safety hazards at federally inspected meat and poultry establishments through the use of antimicrobial interventions and enhanced sanitary dressing practices. A food safety hazard is defined in 9 CFR part 417 as any biological, chemical, or physical property that may cause a food to be unsafe for human consumption. Establishments are required to consider any hazards that could arise before, during, or after the slaughter and processing of meat and poultry products and develop a plan designed to prevent, eliminate, or minimize the likelihood that these hazards will occur. A prudent establishment will employ sound technologies, practices, and other means to control pathogen hazards at the pre-harvest stage, during slaughter, and during processing to minimize contamination of the edible tissue.

Future hazard reduction interventions will likely arise from approaches that are being researched or from new approaches that will be added to the scientific community's research agenda. It is important, therefore, for establishments to be aware of the research that is being conducted, so that they can (1) identify their needs, (2) highlight matters that are not under investigation, (3) provide input on the economic impact of implementing new practices in their facilities, and (4) explain the impact of food safety hazards on the marketability of their products.

Salmonella, a group of bacteria that can cause diarrheal illness in humans, is the most frequently reported cause of foodborne illness. Contaminated foods are often of animal origin, such as beef, poultry, milk, or eggs, but all foods, including vegetables, may become contaminated.

FSIS Hazard Analysis and Critical Control Point (HACCP) verification testing for all meat and poultry product categories has shown a continuous decline in Salmonella positive samples for beef product classes. However, since 2002, FSIS has seen an increase in Salmonella positive samples for broiler production classes. Agency data show that Salmonella percent positive in “A” set verification sampling for broilers from establishments of all sizes increased from 11.5% in 2002 to 12.8% in 2003 to 13.5% in 2004. Although the overall percentage of positive samples in verification testing is still below the national baseline prevalence figures, the continuing upward trend in recent years is a source of significant concern.

Consequently, on August 25 and 26, 2005, FSIS held a public meeting on advances in pre-harvest reduction of Salmonella in poultry at the Russell Research Center in Athens, Georgia. FSIS is announcing that it will hold a second public meeting on Salmonella controls, focusing on interventions during broiler slaughter as well as further processing of ground chicken and turkey. This meeting will discuss interventions to reduce Salmonella on broilers, ground chicken, and ground turkey. The meeting will include technical presentations on the opportunities for affecting Salmonella levels at each step in the slaughter process, emphasizing aspects where biological hazards associated with Salmonella are critical and require interventions. There will also be panel discussions of the possible approaches that are presented and opportunities for the audience to ask questions of presenters and panelists. The meeting will conclude with presentations outlining FSIS policy initiatives to encourage reduction of Salmonella positive regulatory verification samples.

Additional Public Notification

Public awareness of all segments of rulemaking and policy development is important. Consequently, in an effort to better ensure that minorities, women, and persons with disabilities are aware of this notice, FSIS will announce it on-line through the FSIS Web page located at http://www.fsis.usda.gov/regulations/2005_Notices_Index/index.asp.

FSIS will also make copies of this Federal Register publication available through the FSIS Constituent Update, which is used to provide information regarding FSIS policies, procedures, regulations, Federal Register notices, FSIS public meetings, recalls and other types of information that could affect or would be of interest to our constituents and stakeholders. The update is communicated via Listserv, a free e-mail subscription service consisting of industry, trade, and farm groups, consumer interest groups, allied health professionals, scientific professionals, and other individuals who have requested to be included. The update also is available on the FSIS Web page. Through Listserv and the Web page, FSIS is able to provide information to a much broader, more diverse audience.

In addition, FSIS offers an e-mail subscription service which provides an automatic and customized notification when popular pages are updated, including Federal Register publications and related documents. This service is available at http://www.fsis.usda.gov/news_and_events/email_subscription/ and allows FSIS customers to sign up for subscription options across eight categories. Options range from recalls to export information to regulations, directives and notices.

Customers can add or delete subscriptions themselves and have the option to password protect their account.

Done at Washington, DC on February 7, 2006.
Barbara J. Masters,
Administrator.

[FR Doc. E6-1936 Filed 2-10-06; 8:45 am]

BILLING CODE 3410-DM-P